DEPARTMENT OF LABOR

Employment and Training Administration

[Docket No. TA-W-37,330]

Cadillac Curtain Corp. Dyer, Tennessee; Notice of Termination of Investigation

Pursuant to Section 221 of the Trade Act of 1974, an investigation was initiated on February 14, 2000, in response to a worker petition which was filed on the same date on behalf of workers at Cadillac Curtain Corp., Dyer, Tennessee.

The petitioner has requested that the petition be withdrawn. Consequently, further investigation in this case would serve no purpose, and the investigation has been terminated.

Signed in Washington, D.C. this 20th day of March, 2000.
Grant D. Beale,
Program Manager, Division of Trade Adjustment Assistance.

[FR Doc. 00-7979 Filed 3-30-00; 8:45 am]

BILLING CODE 4510-30-M